DEPARTMENT OF COMMERCE

[Docket No. 100427198-2060-01]

Privacy Act System of Records

AGENCY: U.S. Census Bureau, Department of Commerce.

ACTION: Notice of amended Privacy Act System of Records: COMMERCE/CENSUS-10 and 5.

SUMMARY: The Department of Commerce (Commerce) publishes this notice to announce the effective date of a Privacy Act System of Records notice entitled COMMERCE/CENSUS-5, Decennial Census Program.

DATES: The system of records becomes effective on May 14, 2010.

ADDRESSES: For a copy of the system of records please mail requests to: Chief Privacy Officer, Privacy Office, Room HQ—8H168, U.S. Census Bureau, Washington, DC 20233-3700.

FOR FURTHER INFORMATION CONTACT: Chief Privacy Officer, Privacy Office, Room HQ—8H168, U.S. Census Bureau, Washington, DC 20233-3700, 301-763-6560.

SUPPLEMENTARY INFORMATION: On March 18, 2010, the Department of Commerce published and requested comments on a proposed amended Privacy Act System of Records notice entitled COMMERCE/CENSUS-5, Decennial Census Program (75 FR 13076). That notice proposed to combine the American Community Survey, and the Population and Housing Census Records of the 2000 Census Including Preliminary Statistics for the 2010 Decennial Census, into the COMMERCE/CENSUS-5, Decennial Census Program. No comments were received in response to the request for comments. By this notice, the Department is adopting the proposed amended system as final without changes effective May 14, 2010.

Dated: May 7, 2010.
Brenda Dolan,
U.S. Department of Commerce, Freedom of Information/Privacy Act Officer.

[FR Doc. 2010-11548 Filed 5-13-10; 8:45 am]

BILLING CODE 3510-07-P